DEPARTMENT OF HOMELAND SECURITY

Department of Homeland Security (DHS) Cybersecurity Education and Awareness (CE&A) National Initiative for Cybersecurity Careers and Studies (NICCS) Cybersecurity Scholarships, Internships, Camps, Clubs, and Competitions Collection

AGENCY: Cybersecurity Education & Awareness Office, DHS.

ACTION: 30-Day notice and request for comments; new collection (request for a new OMB Control No.), 1601—NEW.

SUMMARY: The Department of Homeland Security, Cybersecurity Education & Awareness Office, will submit the following Information Collection Request (ICR) to the Office of Management and Budget (OMB) for review and clearance in accordance with the Paperwork Reduction Act of 1995 (Pub. L. 104-13, 44 U.S.C. Chapter 35). DHS previously published this information collection request (ICR) in the Federal Register on Friday, December 19, 2014 at 79 FR 75824 for a 60-day public comment period. No comments were received by DHS. The purpose of this notice is to allow additional 30 days for public comments.

DATES: Comments are encouraged and will be accepted until April 1, 2015. This process is conducted in accordance with 5 CFR 1320.1

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

SUPPLEMENTARY INFORMATION: Title II, Homeland Security Act, 6 U.S.C. 121(d)(1) To access, receive, and analyze law enforcement information, intelligence information and other information from agencies of the Federal Government, State and local government agencies . . . and Private sector entities and to integrate such information in support of the mission responsibilities of the Department. The following authorities also permit DHS to collect information of the type contemplated: Federal Information Security Management Act of 2002 (FISMA), 44 U.S.C. 3546; Homeland Security Presidential Directive (HSPD) 7, “Critical Infrastructure Identification, Prioritization, and Protection” (2003); and NSPD-54/HSPD-23, “Cybersecurity Policy” (2008).

In May 2009, the President ordered a Cyberspace Policy Review to develop a comprehensive approach to secure and defend America's infrastructure. The review built upon the Comprehensive National Cybersecurity Initiative (CNCI).

In response to increased cyber threats across the Nation, the National Initiative for Cybersecurity Education (NICE) expanded from a previous effort, the CNCI Initiative #8. NICE formed in 2010, and is a nationally coordinated effort comprised of over 20 federal departments and agencies, and numerous partners in academia and industry. NICE focuses on cybersecurity awareness, education, training and professional development. NICE seeks to encourage and build cybersecurity awareness and competency across the Nation and to develop an agile, highly skilled cybersecurity workforce.

The National Initiative for Cybersecurity Careers & Studies (NICCS) Portal is a national online resource for cybersecurity awareness, education, talent management, and professional development and training. NICCS Portal is an implementation tool for NICE. Its mission is to provide comprehensive cybersecurity resources to the public.

Any information received from the public in support of the NICCS Portal is completely voluntary. Organizations and individuals who do not provide information can still utilize the NICCS Portal without restriction or penalty. An organization or individual who wants their information removed from the NICCS Portal can email the NICCS Supervisory Office (SO). The NICCS SO email address, niccs@hq.dhs.gov, is provided in many places throughout the Web site. The organization or individual can send the SO a brief email stating their desire to remove their data.

Department of Homeland Security (DHS) Cybersecurity Education and Awareness (CE&A) intends for a portion of the collected information from the NICCS Cybersecurity Scholarships, Internships, Camps & Clubs, and Competitions Web Form to be displayed on a publicly accessible Web site called the National Initiative for Cybersecurity Careers and Studies (NICCS) Portal (http://niccs.us-cert.gov/). Information will be made available to the public to support the National Initiative for Cybersecurity Education (NICE) mission.

The information will be completely collected via electronic means using the web form collection instruments. Once data is inputted into the web form collection instruments it will be automatically formatted and emailed to the NICCS Supervisory Office (SO) for review and processing. Correspondence between the public and DHS CE&A will be via the NICCS SO official email address (niccs@hq.dhs.gov). Correspondence could include a confirmation to the public confirming the receipt and acceptance of their data entry. After this confirmation, correspondence will be limited to conversations initiated by the public.

All information collected from the NICCS Cybersecurity Scholarships, Internships, Camps & Clubs, and Competitions Web Form will be stored on the publicly accessible NICCS Portal. The following privacy documents address this collection request: DHS/ALL/PIA-006—DHS General Contacts List Privacy Impact Assessments (PIA) and DHS/ALL/SORN-002—Department of Homeland Security (DHS) Mailing and Other Lists Systems System of Records Notice (SORN). All information, excluding Points of Contacts (POC) names and email addresses, will be made available on the public-facing NICCS web Portal. There is no assurance of confidentiality provided to the respondents for this collection of information.

This is a new collection; therefore, there has been no increase or decrease in the estimated annual burden hours previously reported for this information collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity Education & Awareness Office, DHS.

Title: Department of Homeland Security (DHS) Cybersecurity Education and Awareness (CE&A) National Initiative for Cybersecurity Careers and Studies (NICCS) Cybersecurity Scholarships, Internships, Camps, Clubs, and Competitions Collection.

OMB Number: 1601—NEW.

Frequency: Annually.

Affected Public: Private Sector.

Number of Respondents: 150.

Estimated Time per Respondent: 30 minutes.

Total Burden Hours: 75 hours.

Carlene C. Ileto,
Executive Director, Enterprise Business Management Office.

[FR Doc. 2015-04265 Filed 2-27-15; 8:45 am]

BILLING CODE 9110-9B-P